DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Nurse Faculty Loan Program, Annual Performance Report Financial Data Form

OMB No. 0915-0314—REVISION

Abstract: This clearance request is for approval of the revised Nurse Faculty Loan Program, Annual Performance Report (NFLP-APR) Financial Data Form. The form is currently approved under OMB Approval No: 0915-0314, with an expiration date of March 31, 2014. The form was previously titled as the Nurse Faculty Loan Program, Annual Operating Report (NFLP-AOR).

Need and Proposed Use of the Information: The online NFLP-APR Financial Data Form is an online form that exists in the HRSA Electronic Handbooks (EHBs) Performance Report module as part of the NFLP, Bureau of Health Professions performance report under OMB Approval No: 0915-0061, with an expiration date of June 30, 2016. The revised NFLP-APR financial data will collect less data from applicants and will no longer include nursing student demographic data that was previously included. The nursing student demographic data are currently collected under OMB approval number 0915-0061. The revised NFLP-APR form will only collect financial data to capture the NFLP loan fund account activity related to financial receivables, disbursements, and borrower account data for employment status, loan cancellation, loan repayment, and collections. Participating schools will provide the federal government with current and cumulative information on: (1) NFLP loan funds received, (2) number and amount of NFLP loans made, (3) number and amount of loans collected, (4) number and amount of loans in repayment, (5) loan default rate percent, (6) number of NFLP graduates employed as nurse faculty, and (7) other related loan fund costs and activities.

Under Title VIII, section 846A of the Public Health Service Act, as amended by Public Law 111-148, the Secretary of the Department of Health and Human Services (HHS) enters into an agreement with a school of nursing and makes an award to the school. The award is used to establish a distinct account for the NFLP loan fund at the school. The school of nursing makes loans from the NFLP loan fund account to students enrolled full-time or, at the discretion of the Secretary, part-time in a master's or doctoral nursing education program that will prepare them to become qualified nursing faculty. Following graduation from the NFLP lending school, loan recipients may receive up to 85 percent NFLP loan cancellation over a consecutive 4 year period in exchange for service as full-time faculty at a school of nursing. The NFLP lending school collects any portion of the loan that is not cancelled and any loans that go into repayment and deposits these monies into the NFLP loan fund to make additional NFLP loans.

The school of nursing must keep records of all NFLP loan fund transactions. The NFLP-APR financial data form is used to monitor grantee performance by collection of information relating to the NFLP loan fund operations and financial activities for a specified reporting period (July 1 through June 30 of the academic year). Participating schools are required to complete and submit the NFLP-APR financial data form semi-annually.

The data provided in the form are essential for HRSA to effectively monitor the school's use of NFLP funds in accordance with program guidelines. Approval of the revised NFLP-APR financial data form will facilitate HRSA's current effort to determine future awards to the school. The electronic data collection capability will streamline the report submission process, enable an efficient annual performance review process, and serve as a data repository to facilitate reporting on the use of funds and analysis of program outcomes.

Likely Respondents: Participating NFLP schools are required to adhere to reporting requirements.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours
Form name | Number of respondents | Number of respondents per respondent | Total responses | Average burden per response (in hours) | Total burden hours
Nurse Faculty Loan Program—Annual Performance Report Financial Data Form | 150 | 1 | 150 | 6 | 900
Total burden | 150 | 1 | 150 | 6 | 900

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: November 12, 2013.
Bahar Niakan,
Director, Division of Policy and Information Coordination.

[FR Doc. 2013-27836 Filed 11-19-13; 8:45 am]

BILLING CODE 4165-15-P